FOREIGN CLAIMS SETTLEMENT COMMISSION

U.S. Department of Justice

[F.C.S.C. Meeting and Hearing Notice No. 1-16]

Sunshine Act Meeting

The Foreign Claims Settlement Commission, pursuant to its regulations (45 CFR part 503.25) and the Government in the Sunshine Act (5 U.S.C. 552b), hereby gives notice in regard to the scheduling of open meetings as follows:

Tuesday, January 12, 2016: 10:00 a.m.—Issuance of Proposed Decisions in claims against Libya.

Status: Open.

All meetings are held at the Foreign Claims Settlement Commission, 600 E Street NW., Washington, DC. Requests for information, or advance notices of intention to observe an open meeting, may be directed to: Patricia M. Hall, Foreign Claims Settlement Commission, 600 E Street NW., Suite 6002, Washington, DC 20579. Telephone: (202) 616-6975.

Dated at Washington, DC.
Brian M. Simkin,
Chief Counsel.

[FR Doc. 2015-33105 Filed 12-30-15; 11:15 am]

BILLING CODE 4410-BA-P